DEPARTMENT OF AGRICULTURE

Forest Service

Nez Perce-Clearwater National Forests; Idaho; Hungry Ridge Restoration Project

AGENCY: Forest Service, Agriculture (USDA).

ACTION: Notice of intent to prepare a Supplemental Environmental Impact Statement.

SUMMARY: The USDA Forest Service is giving notice of its intent to prepare a Supplemental Environmental Impact Statement (SEIS) for the Hungry Ridge Restoration Project on the Salmon River Ranger District of the Nez Perce-Clearwater National Forests, in Idaho. The Forest Supervisor plans to prepare a SEIS to further evaluate old growth and cumulative effects under National Forest Management Act (NFMA) and National Environmental Policy Act (NEPA) consistent with Case No. 3:21-cv-00189-CWD Memorandum and Decision Order (June 24, 2022).

DATES: There is no comment period at this time. The draft SEIS will be advertised for public comment as required by 40 CFR 1503.1. The draft SEIS is anticipated to be available for public review and comment in early 2023 and will be announced in the Federal Register, on the Nez Perce-Clearwater National Forests' project website and other local media. The comment period for the draft SEIS will be 45 days from the date the Environmental Protection Agency publishes the notice of availability in the Federal Register.

ADDRESSES: Nez Perce Clearwater National Forests, 1008 Highway 64, Kamiah, Idaho 83536.

FOR FURTHER INFORMATION CONTACT: Jennie Fischer, Interdisciplinary Team Leader, jennie.fischer@usda.gov; 208-983-4048. Individuals who use telecommunication devices for the deaf (TDD) may call the Federal Information Relay Service (FIRS) at 1-800-877-8339, 24 hours a day, every day of the year, including holidays.

SUPPLEMENTARY INFORMATION: The Supplemental Environmental Impact Statement will improve the Hungry Ridge Restoration final Enivironmntal Impact Satement (FEIS) (September 2020, EIS No. 20200185) by providing an updated analysis of the environmental effects related to old growth and analysis of cumulative effects of the Hungry Ridge and End of the World projects on old growth. The Final Record of Decision was signed in March 2021. The SEIS will address the Judge's order regarding old growth and cumulative effects.

If needed, the Forest Supervisor of the Nez Perce-Clearwater National Forests will issue a new Record of Decision (ROD) after evaluating the SEIS and public comments. If needed, an objection period for a new ROD will be provided, consistent with 36 CFR part 218.

Purpose and Need for Action

The overall purpose of the Hungry Ridge Restoration project is to manage forest vegetation to restore natural disturbance patterns; improve long-term resilience at the stand and landscape levels; reduce the potential risk to private property and structures; improve watershed conditions; and maintain/improve habitat structure, function and diversity. Timber outputs from the proposed action would be used to offset treatment costs, support the economic structure of local communities, and provide for regional and national needs.

Proposed Action

The proposed action was presented as Alternative 2 in the FEIS (September 2020). The Hungry Ridge Restoration project is located approximately 17 miles southeast of Grangeville in Idaho County, Idaho and includes the following actions: 7,164 acres of commercial timber harvest and fuels reduction; 12,372 acres of prescribed burning, and 10 acres of hand thinning around private property to reduce fuel levels. A combination of ground-based and aerial logging systems would be used. Associated road work includes up to: nine miles of permanent road construction, 23 miles of temporary road construction that would be decommissioned, two miles of road reconstruction, 34 miles of road reconditioning, road maintenance for log haul, and four miles of road long term storage. Approximately 1.8 miles of private road would be used under a road use agreement. Restoration actions to improve watershed conditions include approximately 25 miles road decommissioning, replacement of 18 culverts, improvement at two trail stream crossings, 87 acres of hardwood planting, and 75 acres of soil restoration. Monitoring and one project-specific amendment to the Nez Perce National Forest Land and Resource Management Plan (Forest Plan) are also proposed.

Preliminary Alternatives

The additional alternative the SEIS may consider is in response to impacts to old growth. The Hungry Ridge Restoration FEIS (September 2020) evaluated the potential effects of four alternatives, including No Action and three action alternatives. The proposed action addresses the need to: manage vegetation to provide forest products, to reduce hazardous fuels on forest lands and adjacent to private property, reduce effects to wild and scenic rivers, reduce effects to steep slopes, reduce effects to wilderness characteristics, improve watershed condition through changes to access management, treatment of road and trail stream crossings. Alternatives were developed based on the potential effects to: old growth and old growth-dependent species; watershed and fish habitat, visual resources from timber harvest, new road construction, mechanical treatment in Forest Plan Management Area 20, and landscape prescribed burning.

Expected Impacts

Preliminary significant impacts to be evaluated included: effects to old growth and cumulative effects.

Responsible Official

Cheryl F. Probert, Nez Perce—Clearwater Forest Supervisor, Nez Perce-Clearwater National Forests Supervisor's Office, 1008 Highway 64, Kamiah, Idaho 83536.

Scoping Comments and the Objection Process

A Notice of Intent was published in the Federal Register on February 12, 2014, and initiated the scoping period for the Hungry Ridge Restoration Project. That notice started a 45-day scoping period. In accordance with 40 CFR 1502.9(d)(3), there will be no scoping conducted for this SEIS. The court's Decision on the Hungry Ridge Restoration FEIS established the scope of this SEIS.

The Forest will be soliciting future participation via the GovDelivery email notification system, rather than postal mail. Details about the upcoming project information will sent to you through GovDelivery. To sign up for GovDelivery and take advantage of new electronic notifications, please visit the Hungry Ridge Restoration project web page at: https://www.fs.usda.gov/project/?project=43661. Updates will not be sent via postal mail.

Nature of Decision To Be Made

The deciding official will review the additional information to determine whether direct, indirect and cumulative effects on old growth in the Hungry Ridge Restoration project area meet the requirements of Appendix N of the Forest Plan; if there are cumulative impacts to old growth by the Hungry Ridge Restoration Project and the End of the World Restoration Project; and whether a new decision is needed to comply with the Forest Plan.

Dated: December 2, 2022.
Troy Heithecker,
Associate Deputy Chief, National Forest System.

[FR Doc. 2022-26582 Filed 12-6-22; 8:45 am]

BILLING CODE 3411-15-P